DEPARTMENT OF HEALTH AND HUMAN SERVICES

National Institutes of Health

National Institutes of Child Health and Human Development; Notice of Closed Meeting

Pursuant to section 10(d) of the Federal Advisory Committee Act, as amended (5 U.S.C. Appendix 2), notice is hereby given of a meeting of the National Advisory Child Health and Human Development Council.

The meeting will be closed to the public in accordance with the provisions set forth in sections 552b(c)(4) and 552b(c)(6), Title 5 U.S.C., as amended. The intramural programs and projects and the discussions could disclose confidential trade secrets or commerical property such as patentable material, and personal information concerning individuals associated with the intramural programs and projects, the disclosure of which would constitute a clearly unwarranted invasion of personal privacy.

Name of Committee: National Advisory Child Health and Human Development Council. NACHHD Council Subcommittee on Planning and Policy.

Date: September 5, 2002.

Time: 1 p.m. to 3 p.m.

Agenda: To review and evaluate intramural research.

Place: NIH, 9000 Rockville Pike, Bldg. 31, Room 2A03, Bethesda, MD 20892, (Telephone Conference Call).

Contact Person: Derik Mezzack, NIH/NICHD/OSPAC, 9000 Rockville Pike, Bldg. 31 Room 2A18, Bethesda, MD 20892, Bethesda, MD 20892, (301) 496-1878, mezzackd@mail.nih.gov.

This notice is being published less than 15 days prior to the meeting due to the timing limitations imposed by the review and funding cycle.

Information is also available on the Institute's/Center's home page: www.nichd.nih.gov/about/nachhd.htm, where an agenda and any additional information for the meeting will be posted when available.

(Catalogue of Federal Domestic Assistance Program Nos. 93.209, Contraception and Infertility Loan Repayment Program; 93.864, Population Research; 93.865, Research for Mothers and Children; 93.929, Center for Medical Rehabilitation Research, National Institutes of Health, HHS)

Dated: September 3, 2002.
LaVerne Y. Stringfield,
Director, Office of Federal Advisory Committee Policy.

[FR Doc. 02-23321 Filed 9-12-02; 8:45 am]

BILLING CODE 4140-01-M